DEPARTMENT OF LABOR

Occupational Safety and Health Administration

29 CFR Part 1910

[Docket No. OSHA-S049-2006-0675 (Formerly Docket No. S-049)]

RIN 1218-AB50

General Working Conditions in Shipyard Employment; Correction

AGENCY: Occupational Safety and Health Administration (OSHA), Labor.

ACTION: Final rule; correction.

SUMMARY: The Occupational Safety and Health Administration is correcting a final rule on General Working Conditions in Shipyard Employment published in the Federal Register of May 2, 2011 (76 FR 24576).

DATES: Effective August 1, 2011.

FOR FURTHER INFORMATION CONTACT:

Press inquiries: Frank Meilinger, Office of Communications, OSHA, U.S. Department of Labor, Room N-3647, 200 Constitution Avenue, NW., Washington, DC 20210; telephone: (202) 693-1999.

General and technical information: Joseph V. Daddura, Director, Office of Maritime, Directorate of Standards and Guidance, OSHA, U.S. Department of Labor, Room N-3621, 200 Constitution Avenue, NW., Washington, DC 20210; telephone (202) 693-2222.

SUPPLEMENTARY INFORMATION:

In FR Doc. 2011-9567 appearing on page 24576 in the Federal Register of Monday, May 2, 2011, the following corrections are made:

§ 1910.145 [Corrected]

1. On page 24698, in the first column, in § 1910.145, in paragraph (a)(1), the first sentence “These specifications apply to the design, application, and use of signs or symbols (as included in paragraphs (c) through (e) of this section) that indicate and, insofar as possible, define specific hazards that could harm workers or the public, or both, or to property damage” is corrected to read “These specifications apply to the design, application, and use of signs or symbols (as included in paragraphs (c) through (e) of this section) intended to indicate and, insofar as possible, to define specific hazards of a nature such that failure to designate them may lead to accidental injury to workers or the public, or both, or to property damage.”

§ 1910.147 [Corrected]

2. On page 24698, in the second column, in § 1910.147, in paragraph (a)(1)(i), the first sentence “This standard covers the servicing and maintenance of machines and equipment in which the energization or start up of the machines or equipment, or release of stored energy, could harm employees” is corrected to read “This standard covers the servicing and maintenance of machines and equipment in which the unexpected energization or start up of the machines or equipment, or release of stored energy could cause injury to employees.”

Signed at Washington, DC, on July 19, 2011.
David Michaels,
Assistant Secretary of Labor for Occupational Safety and Health.

[FR Doc. 2011-18601 Filed 7-22-11; 8:45 am]

BILLING CODE 4510-26-P